FEDERAL COMMUNICATIONS COMMISSION

47 CFR Part 73

[MB Docket No. 17-318; DA 25-530; FR ID 300811]

National Television Multiple Ownership Rule

AGENCY: Federal Communications Commission.

ACTION: Proposed rule; reopening of comment period.

SUMMARY: In this document, the Media Bureau of the Federal Communications Commission seeks to update the record in the National Television Multiple Ownership Rule proceeding, in which the Commission has sought comment whether to modify, retain, or eliminate the 39% national audience reach cap and/or the UHF discount.

DATES: The comment period for the proposed rule published January 26, 2018 (83 FR 3661), is reopened. Comments are due: August 4, 2025. Reply comments are due: August 22, 2025.

ADDRESSES: All filings must be submitted in MB Docket No. 17-318. Pursuant to §§ 1.415 and 1.419 of the Commission's rules, 47 CFR 1.415, 1.419, interested parties may file comments and reply comments on or before the dates indicated on the first page of this document. Comments may be filed using the Commission's Electronic Comment Filing System (ECFS).

• Electronic Filers: Comments may be filed electronically using the internet by accessing the ECFS: https://www.fcc.gov/ecfs.

• Paper Filers: Parties who choose to file by paper must file an original and one copy of each filing.

○ Filings can be sent by hand or messenger delivery, by commercial courier, or by the U.S. Postal Service. All filings must be addressed to the Secretary, Federal Communications Commission.

○ Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

○ Commercial courier deliveries (any deliveries not by the U.S. Postal Service) must be sent to 9050 Junction Drive, Annapolis Junction, MD 20701.

○ Filings sent by U.S. Postal Service First-Class Mail, Priority Mail, and Priority Mail Express must be sent to 45 L Street NE, Washington, DC 20554.

People with Disabilities. To request materials in accessible formats for people with disabilities (braille, large print, electronic files, audio format), send an email to fcc504@fcc.gov or call the Consumer & Governmental Affairs Bureau at 202-418-0530 (voice).

FOR FURTHER INFORMATION CONTACT: Ty Bream, Ty.Bream@fcc.gov, of the Industry Analysis Division, Media Bureau, (202) 418-0644.

SUPPLEMENTARY INFORMATION: This is a summary of the Media Bureau's Public Notice in MB Docket No. 17-318, DA 25-530, that was released June 18, 2025. The full text of this document is available for public inspection online at https://docs.fcc.gov/public/attachments/DA-25-530A1.pdf and via the search function on the Commission's Electronic Document Management System (EDOCS) web page at https://www.fcc.gov/edocs. Documents will be available electronically in ASCII, Microsoft Word, and/or Adobe Acrobat. Alternative formats are available for people with disabilities (Braille, large print, electronic files, audio format, etc.) and reasonable accommodations (accessible format documents, sign language interpreters, CART, etc.) may be requested by sending an email to fcc504@fcc.gov or call the Consumer & Governmental Affairs Bureau at 202-418-0530 (voice).

Synopsis

With this Public Notice, the Media Bureau seeks to refresh the record in the National Television Multiple Ownership Rule proceeding. The prior comment and reply comment period in this proceeding closed over seven years ago. Given the passage of time, we now seek further comment to refresh the record in this proceeding.

Background. In December 2017, the Commission adopted a Notice of Proposed Rulemaking (National Cap NPRM) (83 FR 3661, Jan. 26, 2018) to seek comment on whether to retain, modify, or eliminate its rule limiting entities from owning or controlling broadcast television stations that, in the aggregate, reach more than 39% of the television audience households in the United States. The National Cap NPRM also sought comment on a component of the rule which provides a 50% discount to UHF stations for purposes of calculating compliance with the 39% audience reach cap, often referred to as the UHF discount.

Discussion. With this Public Notice, we open a new comment window and encourage the submission of new or additional information to refresh the record in the National Television Multiple Ownership Rule proceeding. The dockets in this and other proceedings show that the national audience reach cap still generates significant interest to commenters who continue to submit information about it, despite the fact that the record closed seven years ago. Accordingly, we present commenters with this further opportunity to refresh the record in the National Television Multiple Ownership proceeding.

First, we seek comment on materials filed since the comment period ended in April 2018. We invite commenters to review these materials and comment on whether they highlight any issues that warrant further comment and consideration. Are there issues raised in the National Cap NPRM for which new and relevant information has come to light? How have the positions of commenters in this proceeding changed over time as a result of new information? To what extent is prior information in the record outdated or superseded by more recent developments? Where possible, commenters should explain how any new analysis, evidence, or proposals relate to the Commission's promotion of the public interest.

Second, we seek comment on new or additional information regarding the television and video programming marketplace that is relevant to this proceeding. Are there changes in the video programming marketplace that would affect the Commission's prior conclusions about the national audience reach cap? For example, in the National Cap NPRM, the Commission noted, among other developments, the growth of video programming options available to consumers (including online alternatives to traditional video distribution), reverse compensation fees paid by affiliates to broadcast networks, common ownership of broadcast and cable networks, consolidation among both MVPDs and non-network owned broadcast television station groups, and continuing MVPD video subscriber losses. Are there any developments relevant to the relationship between national broadcast networks and their local affiliate television station groups? Have recent industry developments altered the incentives or behavior of networks, local television affiliates, and other market participants in ways relevant to the national audience reach cap? In the National Cap NPRM, the Commission discussed economies of scale made possible by expansion of station ownership that may help broadcast television remain competitive in the marketplace and deter the migration of expensive over-the-air programming to other video programming distributors. The Commission also reasoned that, by placing limits on the expansion of network owned and operated station groups, a national cap would preserve a balance in the marketplace between the networks and their local affiliates. Specifically, the Commission noted its prior conclusions, dating back to 2003, that a national cap would promote localism by enabling local affiliates to influence programming decisions by the networks and to exercise their rights to preempt the airing of network programming in favor of programming better suited to their local communities' needs. Do these prior conclusions remain accurate in 2025, and can they be expected to remain valid going forward? If so, and the Commission retains a national audience reach cap, should common ownership of stations that are not affiliated with major national broadcast networks (i.e., ABC, CBS, NBC, or FOX) be excluded from the cap? If the Commission retains the cap in any form, should it include a UHF discount or any other form of discount?

We also seek comment on any other relevant trends observed within the television and video programming industry or in related markets that are now relevant to the Commission's review of the cap. For example, how has the national audience reach cap affected broadcast television's market position in relation to other video distributors, such as online video providers, that are not restricted by ownership limits? Do the current relationships and business dealings between broadcast television and other video distributors support modification or elimination of the national audience reach cap?

Finally, we seek comment on whether there are any other legal or economic developments that the Commission should consider in the context of the national television audience cap. For example, how, if at all, have legal developments affected the Commission's past conclusions about its authority to implement changes to the national audience reach cap and the UHF discount?

Initial Regulatory Flexibility Analysis. The National Cap NPRM included an Initial Regulatory Flexibility Analysis (IRFA) pursuant to 5 U.S.C. 603, exploring the potential impact on small entities of the Commission's proposals. We invite parties to file comments on the IRFA in light of this request to refresh the record.

Ex Parte Rules—Permit But Disclose. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule § 1.1206(b). In proceedings governed by rule § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Filing Comments and Replies. All filings must be submitted in MB Docket No. 17-318. Pursuant to §§ 1.415 and 1.419 of the Commission's rules, 47 CFR 1.415, 1.419, interested parties may file comments and reply comments on or before the dates indicated on the first page of this document. Comments may be filed using the Commission's Electronic Comment Filing System (ECFS).

• Electronic Filers: Comments may be filed electronically using the internet by accessing the ECFS: https://www.fcc.gov/ecfs.

• Paper Filers: Parties who choose to file by paper must file an original and one copy of each filing.

○ Filings can be sent by hand or messenger delivery, by commercial courier, or by the U.S. Postal Service. All filings must be addressed to the Secretary, Federal Communications Commission.

○ Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

○ Commercial courier deliveries (any deliveries not by the U.S. Postal Service) must be sent to 9050 Junction Drive, Annapolis Junction, MD 20701.

○ Filings sent by U.S. Postal Service First-Class Mail, Priority Mail, and Priority Mail Express must be sent to 45 L Street NE, Washington, DC 20554.

People with Disabilities. To request materials in accessible formats for people with disabilities (braille, large print, electronic files, audio format), send an email to fcc504@fcc.gov or call the Consumer & Governmental Affairs Bureau at 202-418-0530 (voice).

(Authority: 47 U.S.C. 154, 303, 334, 336, 339.)

List of Subjects in 47 CFR Part 73

Television.

Federal Communications Commission.
Thomas Horan,
Chief of Staff, Media Bureau.

[FR Doc. 2025-12603 Filed 7-7-25; 8:45 am]

BILLING CODE 6712-01-P